DEPARTMENT OF COMMERCE

International Trade Administration

[A-412-810, C-412-811]

Certain Hot-Rolled Lead and Bismuth Carbon Steel Products From the United Kingdom: Initiation and Preliminary Results of Changed-Circumstances Antidumping and Countervailing Duty Administrative Reviews, Intent To Revoke Orders and Rescind Administrative Reviews

AGENCY: Import Administration, International Trade Administration, Department of Commerce.

ACTION: Notice of initiation and preliminary results of changed-circumstances antidumping and countervailing duty administrative reviews, intent to revoke orders, and rescind administrative reviews.

SUMMARY: In response to a request from the petitioners, Ispat Inland Inc. and Republic Technologies International LLC, that the Department of Commerce revoke the antidumping and countervailing duty orders on hot-rolled lead and bismuth carbon steel products from the United Kingdom, we are initiating changed-circumstances administrative reviews and issuing this notice of preliminary results and intent to revoke the antidumping and countervailing duty orders retroactive to January 1, 1995. We also intend to rescind the ongoing antidumping and countervailing duty reviews covering the periods March 1, 1998, through February 28, 1999, and January 1, 1998, through December 31, 1998, respectively. Interested parties are invited to comment on these preliminary results.

EFFECTIVE DATE: January 1, 1995.

FOR FURTHER INFORMATION CONTACT: Rebecca Trainor or Kate Johnson (Antidumping); Dana Mermelstein or Jon Lyons (Countervailing), Office of AD/CVD Enforcement, Import Administration, International Trade Administration, U.S. Department of Commerce, 14th Street and Constitution Avenue, NW, Washington, DC 20230; telephone (202) 482-4007, (202) 482-4929, (202) 482-3208, and (202) 482-0374, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR part 351 (April 1999).

Background

On December 28, 1999, Ispat Inland Inc. and Republic Technologies International LLC (the petitioners) requested that the Department revoke the antidumping and countervailing duty orders on certain hot-rolled lead and bismuth carbon steel products from the United Kingdom, retroactive to January 1, 1994, stating that they no longer have an interest in maintaining these orders. The petitioners represent domestic interested parties, and are successor companies to the petitioners in the less-than-fair-value and countervailing duty investigations. On January 5, 2000, the petitioners submitted a letter substantiating their claim that they represent more than 85 percent of domestic production and shipments of the subject merchandise. On February 2, 2000, petitioners amended their initial revocation request, and asked that revocation of the orders be retroactive to January 1, 1995, rather than to January 1, 1994.

Scope of the Reviews

The products covered by these reviews are hot-rolled bars and rods of nonalloy or other alloy steel, whether or not descaled, containing by weight 0.03 percent or more of lead or 0.05 percent or more of bismuth, in coils or cut lengths, and in numerous shapes and sizes. Excluded from the scope of this review are other alloy steels (as defined by the Harmonized Tariff Schedule of the United States (HTSUS) Chapter 72, note 1 (f)), except steels classified as other alloy steels by reason of containing by weight 0.4 percent or more of lead, or 0.1 percent or more of bismuth, tellurium, or selenium. Also excluded are semi-finished steels and flat-rolled products. Most of the products covered in these reviews are provided for under subheadings 7213.20.00.00 and 7214.30.00.00 of the HTSUS. Small quantities of these products may also enter the United States under the following HTSUS subheadings: 7213.31.30.00; 7213.31.60.00; 7213.39.00.30; 7213.39.00.60; 7213.39.00.90; 7213.91.30.00; 7213.91.45.00; 7213.91.60.00; 7213.99.00; 7214.40.00.10, 7214.40.00.30, 7214.40.00.50; 7214.50.00.10; 7214.50.00.30, 7214.50.00.50; 7214.60.00.10; 7214.60.00.30; 7214.60.00.50; 7214.91.00; 7214.99.00; 7228.30.80.00; and 7228.30.80.50. HTSUS subheadings are provided for convenience and customs purposes. The written description of the scope of these proceedings is dispositive.

Initiation and Preliminary Results of Changed-Circumstances Reviews and Intent To Revoke Orders

Pursuant to section 751(d)(1) of the Act, the Department may revoke, in whole or in part, a countervailing or antidumping duty order based on a review under section 751(b) of the Act (i.e., a changed circumstances review). The Department's regulations at 19 CFR 351.216(d) require the Department to conduct a changed-circumstances review in accordance with 19 CFR 351.221 if it decides that changed circumstances sufficient to warrant a review exist. Section 782(h)(2) of the Act and § 351.222(g)(1)(i) of the Department's regulations provide that the Department may revoke an order (in whole or in part) if it determines that producers accounting for substantially all of the production of the domestic like product have no further interest in the order, in whole or in part. In addition, in the event that the Department concludes that expedited action is warranted, 19 CFR 351.221(c)(3) permits the Department to combine the notices of initiation and preliminary results.

The petitioners are domestic interested parties as defined by section 771(9)(C) of the Act and 19 CFR 351.102(b). These parties indicated that they represent at least 85 percent of the domestic production of the domestic like product to which these orders pertain, and thus account for “substantially all” of the production of the domestic like product. Therefore, based on the lack of interest by the domestic industry in the continued application of the antidumping and countervailing duty orders on certain hot-rolled lead and bismuth carbon steel products from the United Kingdom, we are initiating these changed-circumstances reviews. Because of the pending antidumping and countervailing duty administrative reviews, we have determined that expedited action is warranted, and we are combining the notices of initiation and preliminary results. We have preliminarily determined that the petitioners' statement of no interest in the continuation of the orders constitutes changed circumstances sufficient to warrant revocation of the orders in whole. We are hereby notifying the public of our intent to revoke in whole the antidumping and countervailing duty orders on certain hot-rolled lead and bismuth carbon steel products from the United Kingdom retroactive to January 1, 1995.

If these preliminary results become final, we intend to rescind the current antidumping and countervailing duty administrative reviews of the orders, covering the periods March 1, 1998, through February 28, 1999, and January 1, 1998, through December 31, 1998, respectively (initiated on April 30, 1999 (64 FR 23269)).

If final revocation of the orders occurs, we intend to instruct the Customs Service to discontinue the suspension of liquidation and to refund any estimated antidumping and countervailing duties collected for all unliquidated entries of certain hot-rolled lead and bismuth carbon steel products from the United Kingdom entered, or withdrawn from warehouse, for consumption on or after January 1, 1995. We will also instruct the Customs Service to pay interest on any refunds with respect to the subject merchandise entered, or withdrawn from warehouse, for consumption on or after January 1, 1995, in accordance with section 778 of the Act. The current requirement for a cash deposit of estimated antidumping and countervailing duties will continue until publication of the final results of these changed-circumstances reviews.

Public Comment

Interested parties are invited to comment on these preliminary results. Parties who submit argument in these proceedings are requested to submit with the argument (1) A statement of the issue, and (2) A brief summary of the argument. Any interested party may request a hearing within 10 days of the date of publication of this notice. Any hearing, if requested, will be held no later than 21 days after the date of publication of this notice, or the first workday thereafter. Case briefs may be submitted by interested parties not later than 7 days after the date of publication of this notice. Rebuttal briefs, limited to the issues raised in the case briefs, may be filed not later than 12 days after the date of publication of this notice. All written comments shall be submitted in accordance with 19 CFR 351.303 and shall be served on all interested parties on the Department's service list in accordance with 19 CFR 351.303. Persons interested in attending the hearing should contact the Department for the date and time of the hearing. The Department will publish the final results of these changed-circumstances reviews, including the results of its analysis of issues raised in any written comments.

We are issuing and publishing these determinations and notice in accordance with sections 751(b)(1) and 777(i)(1) of the Act and section 351.222 of the Department's regulations.

Dated: February 9, 2000.
Robert S. LaRussa,
Assistant Secretary for Import Administration.

[FR Doc. 00-3555 Filed 2-14-00; 8:45 am]

BILLING CODE 3510-DS-P